THE NATIONAL FOUNDATION ON THE ARTS AND HUMANITIES

Proposed Collection, Museums for America Grant Program Evaluation

AGENCY: Institute of Museum and Library Services.

ACTION: Notice, request for comments, collection of information

SUMMARY: The Institute of Museum and Library Services (IMLS), as part of its continuing effort to reduce paperwork and respondent burden, conducts a preclearance consultation program to provide the general public and federal agencies with an opportunity to comment on proposed and/or continuing collections of information in accordance with the Paperwork Reduction Act (44 U.S.C. 3501 et seq.).This program helps to ensure that requested data can be provided in the desired format, reporting burden (time and financial resources) is minimized, collection instruments are clearly understood, and the impact of collection requirements on respondents can be properly assessed. The purpose of this Notice is to solicit comments concerning the proposed IMLS study of the impacts of the IMLS Museums for America Grant Program.

A copy of the proposed information collection request can be obtained by contacting the individual listed below in the addressee section of this notice.

DATES: Written comments must be submitted to the office listed in the addressee section below on or before January 15, 2010. IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Send comments to: Erica Pastore, Program Analyst, Institute of Museum and Library Services, 1800 M St., NW., Washington, DC 20036. Telephone: 202-653-4647, Fax: 202-653-4611 or by e-mail at epastore@imls.gov.

SUPPLEMENTARY INFORMATION:

I. Background

The Institute of Museum and Library Services (IMLS) is an independent Federal grant-making agency and is the primary source of federal support for the Nation's 123,000 libraries and 17,500 museums. IMLS provides a variety of grant programs to assist the Nation's museums and libraries in improving their operations and enhancing their services to the public. IMLS is responsible for identifying national needs for, and trends of, museum and library services funded by IMLS; reporting on the impact and effectiveness of programs conducted with funds made available by IMLS in addressing such needs; and identifying, and disseminating information on, the best practices of such programs. (20 U.S.C. 9108). This Notice is to solicit comments on a program evaluation of the IMLS Museums for America Grant Program, which began in 2004.

II. Current Actions

A current IMLS research initiative is an analysis of grants made to museums through the Museums for America program between 2004 and 2009. The goal is to assess the outcomes and impact of such grants on institutions and their communities. As part of this research initiative, a survey, which is the subject of this Notice, will be undertaken to solicit information from past successful and unsuccessful grant applicants about the application process and the subsequent results on their programs. A small number of museum staff will be interviewed by phone or in person as part of the project case studies. These information collections will be developed based on what is needed to undertake an analysis and case studies of grant results. The information IMLS collects will build on, but not duplicate existing or ongoing collections.

Agency: Institute of Museum and Library Services.

Title: Museums for America Grant Program Evaluation.

OMB Number: To be determined.

Agency Number: 3137.

Frequency: One time.

Affected Public: Museums.

Number of Respondents: To be determined.

Estimated Time per Respondent: To be determined.

Total Burden Hours: To be determined.

Total Annualized capital/startup costs: To be determined.

Total Annual costs: To be determined.

FOR FURTHER INFORMATION CONTACT: Erica Pastore, Program Analyst, Office of Policy, Planning, Research and Communication, Institute of Museum and Library Services, 1800 M St., NW., Washington, DC 20036, e-mail: epastore@imls.gov or telephone (202) 653-4647.

Dated: November 17, 2009.
Kim Miller,
Management Analyst, Office of Policy, Planning, Research, and Communication.

[FR Doc. E9-28001 Filed 11-23-09; 8:45 am]

BILLING CODE 7036-01-P